DEPARTMENT OF TRANSPORTATION

Federal Aviation Administration

14 CFR Part 39

[Docket No. FAA-2020-0462; Product Identifier 2019-SW-021-AD]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS332C1 and AS332L1 helicopters. This proposed AD was prompted by a report that the affected helicopters use the same “flight/ground” logic signal instead of independent redundant signals. This proposed AD would require amending the emergency procedures of the rotorcraft flight manual (RFM) for your helicopter, a wiring modification of the “flight/ground” logic signal source of the attitude heading and reference system (AHRS) 1, and then removal of the amendment to the RFM for your helicopter. The FAA is proposing this AD to address the unsafe condition on these products.

DATES: The FAA must receive comments on this proposed AD by July 20, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N Forum Drive, Grand Prairie, TX 75052; phone: (972) 641-0000 or (800) 232-0323; fax: (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Examining the AD Docket

You may examine the AD docket on the internet at https://www.regulations.gov by searching for and locating Docket No. FAA-2020-0462; or in person at Docket Operations between 9 a.m. and 5 p.m., Monday through Friday, except Federal holidays. The AD docket contains this NPRM, the European Aviation Safety Agency (now European Union Aviation Safety Agency) (EASA) AD, any comments received, and other information. The street address for Docket Operations is listed above. Comments will be available in the AD docket shortly after receipt.

FOR FURTHER INFORMATION CONTACT: George Schwab, Aviation Safety Engineer, Safety Management Section, Rotorcraft Standards Branch, FAA, 10101 Hillwood Pkwy., Fort Worth, TX 76177; phone: 817-222-5110; email: george.schwab@faa.gov.

SUPPLEMENTARY INFORMATION:

Comments Invited

The FAA invites you to send any written relevant data, views, or arguments about this proposal. Send your comments to an address listed under the ADDRESSES section. Include “Docket No. FAA-2020-0462; Product Identifier 2019-SW-021-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

EASA, which is the Technical Agent for the Member States of the European Union, has issued EASA AD 2019-0021, dated February 1, 2019; corrected February 4, 2019 (EASA AD 2019-0021) (referred to after this as the Mandatory Continuing Airworthiness Information or “the MCAI”), to correct an unsafe condition for certain Airbus Helicopters Model AS332C1 and AS332L1 helicopters. EASA advises that the AHRS 1 and AHRS 2 installed on AS332C1e and AS332L1e helicopters use the same `flight/ground' logic signal, instead of independent redundant signals, as required by the original design specification. If both AHRS incorrectly receive “ground” status in flight, as a result for instance of a single failure, this will generate consistent erroneous computation of the attitudes and vertical speed during helicopter maneuvers with consequent incorrect flight data indications to the flight crew on both primary displays. EASA AD 2019-0021 states that this condition, if not corrected, could lead to increased workload for the flight crew when the upper modes of the automatic flight control system are not engaged, possibly resulting in reduced control of the helicopter during high speed maneuvers in instrumental meteorological conditions (IMC).

EASA further advises that Airbus Helicopters has issued rush revisions to the RFM, and developed a modification of the wiring harness, ensuring independent sources of the “flight/ground” logic signal for both AHRS. EASA AD 2019-0021 requires amending the emergency procedures of the applicable RFM, doing the modification of the wiring harness, and then removing the amendment to the RFM.

You may examine the MCAI in the AD docket on the internet at https://www.regulations.gov by searching for and locating Docket No. FAA-2020-0462.

Related Service Information Under 1 CFR Part 51

Airbus Helicopters has issued Alert Service Bulletin No. AS332-34.00.60, Revision 1, dated March 29, 2019. This service information describes procedures for a wiring modification of the “flight/ground” logic signal source of the AHRS 1, which changes the “flight/ground” logic signal source to independent redundant signals.

This service information is reasonably available because the interested parties have access to it through their normal course of business or by the means identified in the ADDRESSES section.

Other Related Service Information

Airbus Helicopters has issued Alert Service Bulletin No. AS332-34.00.60, Revision 0, dated December 6, 2018. The service information describes procedures for a wiring modification of the “flight/ground” logic signal source of the AHRS 1, which changes the “flight/ground” logic signal source to independent redundant signals. Airbus Service Bulletin No. AS332-34.00.60, Revision 1, dated March 29, 2019, clarifies the procedures for the post-installation test in Alert Service Bulletin No. AS332-34.00.60, Revision 0, dated December 6, 2018.

FAA's Determination

This product has been approved by the aviation authority of another country, and is approved for operation in the United States. Pursuant to a bilateral agreement with the State of Design Authority, the FAA has been notified of the unsafe condition described in the MCAI and service information referenced above. The FAA is proposing this AD after evaluating all the relevant information and determining the unsafe condition described previously is likely to exist or develop on other products of these same type designs.

Proposed Requirements of This NPRM

This proposed AD would require accomplishing the actions specified in the service information described previously, except as discussed under “Differences Between this Proposed AD and the MCAI or Service Information.”

Differences Between This Proposed AD and the MCAI or Service Information

EASA AD 2019-0021 specifies to do the modification within 6 months. This proposed AD would require the modification be done within 100 hours time-in-service or before intentional flight into IMC, whichever occurs first. The FAA has determined this compliance time represents the maximum interval of time allowable for the affected helicopters to continue to safely operate before the modification is done.

Costs of Compliance

The FAA estimates that this proposed AD affects 8 helicopters of U.S. registry. The FAA estimates the following costs to comply with this proposed AD:

Estimated Costs for Required Actions
Labor cost | Parts cost | Cost per product | Cost on U.S. operators
7 work-hours × $85 per hour = $595 | $40 | $635 | $5,080

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2020-0462; Product Identifier 2019-SW-021-AD.

(a) Comments Due Date

The FAA must receive comments by July 20, 2020.

(b) Affected ADs

None.

(c) Applicability

This AD applies to Airbus Helicopters Model AS332C1 and AS332L1 helicopters, certificated in any category, all manufacturer serial numbers, equipped with an Advanced Helicopter Cockpit & Avionics System (AHCAS), except helicopters that have Airbus Helicopters modification 0728576 embodied in production.

(d) Subject

Joint Aircraft Service Component (JASC) Code 3420, Attitude and direction data system.

(e) Reason

This AD was prompted by a report that the affected helicopters use the same “flight/ground” logic signal, instead of independent redundant signals. The FAA is issuing this AD to address certain helicopters that use the same “flight/ground” logic signal, instead of independent redundant signals. If both attitude heading and reference systems (AHRS) incorrectly receive “ground” status in flight, as a result for instance of a single failure, this will generate consistent erroneous computation of the attitudes and vertical speed during helicopter maneuvers with consequent incorrect flight data indications to the flight crew on both primary displays. Erroneous flight information could lead to increased workload for the flight crew when the upper modes of the automatic flight control system are not engaged, possibly resulting in reduced control of the helicopter during high speed maneuvers in instrumental meteorological conditions (IMC).

(f) Compliance

Comply with this AD within the compliance times specified, unless already done.

(g) Required Actions

(1) Within 30 days after the effective date of this AD: Amend the emergency procedures of the rotorcraft flight manual (RFM) for your helicopter by inserting the supplemental text specified in Figure 1 to paragraph (g)(1) of this AD, immediately following paragraph 9 GROUND/FLIGHT LOGIC FAULT.

BILLING CODE 4910-13-P

BILLING CODE 4910-13-C

(2) Within 100 hours time-in-service or before intentional flight into IMC, whichever occurs first after the effective date of this AD, do the wiring modification of the “flight/ground” logic signal source of the AHRS 1 in accordance with the Accomplishment Instructions of Airbus Helicopters Alert Service Bulletin No. AS332-34.00.60, Revision 1, dated March 29, 2019. After completion of the wiring modification, the RFM amendment required by paragraph (g)(1) of this AD must be removed from the RFM for your helicopter.

(h) Special Flight Permit

Special flight permits may be issued in accordance with 14 CFR 21.197 and 21.199 to operate the helicopter to a location where the helicopter can be modified (if the operator elects to do so), provided the helicopter is operated under visual flight rules only.

(i) Credit for Previous Actions

This paragraph provides credit for the actions specified in paragraph (g) of this AD, if those actions were performed before the effective date of this AD using Airbus Helicopters Alert Service Bulletin No. AS332-34.00.60, Revision 0, dated December 6, 2018.

(j) Alternative Methods of Compliance (AMOCs)

(1) The Manager, Safety Management Section, Rotorcraft Standards Branch, FAA, may approve AMOCs for this AD. Send your proposal to: George Schwab, Aviation Safety Engineer, Safety Management Section, Rotorcraft Standards Branch, FAA, 10101 Hillwood Pkwy., Fort Worth, TX 76177; phone: 817-222-5110; email: 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(k) Related Information

(1) The subject of this AD is addressed in European Aviation Safety Agency (now European Union Aviation Safety Agency) (EASA) AD 2019-0021, dated February 1, 2019; corrected February 4, 2019. This EASA AD may be found in the AD docket on the internet at https://www.regulations.gov by searching for and locating Docket No. FAA-2020-0462.

(2) For service information identified in this AD, contact Airbus Helicopters, 2701 N Forum Drive, Grand Prairie, TX 75052; phone: (972) 641-0000 or (800) 232-0323; fax: (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Issued on May 29, 2020.
Lance T. Gant,
Director, Compliance & Airworthiness Division, Aircraft Certification Service.

[FR Doc. 2020-12028 Filed 6-3-20; 8:45 am]

BILLING CODE 4910-13-P